DEPARTMENT OF TRANSPORTATION

Pipeline and Hazardous Materials Safety Administration

[Docket No. PHMSA-2007-27181 (Notice No. 08-6)]

Information Collection Activities

AGENCY: Pipeline and Hazardous Materials Safety Administration (PHMSA), DOT.

ACTION: Notice of information collection approval.

SUMMARY: This notice announces Office of Management and Budget (OMB) approval and extension until March 28, 2011 for an information collection request entitled “Hazardous Materials Public Sector Training and Planning Grants,” under OMB Control No. 2137-0586. This ICR was revised to implement a statutory provision authorizing PHMSA to request information from states concerning fees related to the transportation of hazardous materials. We are reserving these questions for use in a pilot project we are currently developing. In addition, this ICR was revised to include more detailed information from grantees to enable us to more accurately evaluate the effectiveness of the grant program in meeting emergency response planning and training needs. These questions are to be answered during the close-out procedures conducted and submitted at the end of the application cycle.

DATES: The expiration date for this information collection is March 28, 2011.

ADDRESSES: Requests for a copy of an information collection should be directed to Deborah Boothe or T. Glenn Foster, Office of Hazardous Materials Standards (PHH-11), Pipeline and Hazardous Materials Safety Administration, 1200 New Jersey Avenue, SE., East Building, 2nd Floor, Washington, DC 20590, 202-366-8553.

FOR FURTHER INFORMATION CONTACT: Deborah Boothe or T. Glenn Foster, Office of Hazardous Materials Standards (PHH-11), Pipeline and Hazardous Materials Safety Administration, 1200 New Jersey Avenue, SE., East Building, 2nd Floor, Washington, DC 20590, 202-366-8553.

SUPPLEMENTARY INFORMATION: Office of Management and Budget (OMB) regulations (5 CFR 1320) implementing provisions of the Paperwork Reduction Act of 1995 (Pub. L. 104-13) require that interested members of the public and affected agencies have an opportunity to comment on information collection and recordkeeping activities (see 5 CFR 1320.8(s)) and specify that no person is required to respond to an information collection unless it displays a valid OMB control number. In accordance with the Paperwork Reduction Act of 1995, PHMSA has received OMB approval for renewal of the following ICR:

OMB Control Number: 2137-0586.

Title: “Hazardous Materials Public Sector Training and Planning Grants.”

Expiration Date: March 28, 2011.

Section 1320.8 (d), Title 5, Code of Federal Regulations requires PHMSA to provide interested members of the public and affected agencies an opportunity to comment on information collection and recordkeeping requests. This notice identifies an information collection PHMSA submitted to OMB for revision under OMB Control Number 2137-0586. This collection is contained in 49 CFR Part 110, Hazardous Materials Public Sector Training and Planning Grants. We are revising the information collection to implement a statutory provision authorizing PHMSA to request information from states concerning fees related to the transportation of hazardous materials. We are reserving these questions for use in a pilot project we are currently developing. In addition, we are revising the current information collection to include more detailed information from grantees to enable us to more accurately evaluate the effectiveness of the grant program in meeting emergency response planning and training needs. These questions are to be answered during the close-out procedures conducted and submitted at the end of the application cycle.

State and Tribal Hazardous Materials Fees

Federal hazardous materials transportation law (Federal hazmat law; 49 U.S.C. 5101 et seq.) specifies that Hazardous Materials Emergency Preparedness (HMEP) grant funds are to be allocated based on the needs of states and Indian tribes for emergency response planning and training, considering a number of factors including whether the state or tribe imposes and collects a fee on the transportation of hazardous materials and whether the fee is used only to carry out a purpose related to the transportation of hazardous materials. 40 U.S.C. 5116(b)(4). Accordingly, the HMEP grant application procedures in Part 110 require applicants to submit a statement explaining whether the applicant assesses and collects fees for the transportation of hazardous materials and whether those fees are used solely to carry out purposes related to the transportation of hazardous materials.

Section 5125(f) of the Federal hazmat law permits a state, political subdivision of a state, or Indian tribe to impose a fee related to the transportation of hazardous materials only if the fee is fair and used for a purpose related to transporting hazardous materials, including enforcement and planning, developing, and maintaining a capability for emergency response. In accordance with section 5125, the Department of Transportation may require a state, political subdivision of a state, or Indian tribe to report on the fees it collects, including: (1) The basis on which the fee is levied; (2) the purposes for which the revenues from the fee are used; and (3) the total amount of annual revenues collected from the fee. Until now, we have not proposed asking states, political subdivisions, or Indian tribes to report this information.

I. Background

In response to our February 26, 2007 Notice [72 FR 8421] concerning the three-year renewal of the OMB approval of the information collection required of applicants for HMEP grants, we received one comment from the Interested Parties for Hazardous Materials Transportation urging us to require grant applicants to report on the hazardous materials information fees they collect in accordance with section 5125(f) of the Federal hazmat law. The commenter stated that such information is important for both the agency and the regulated community to determine if states are in compliance with applicable provisions of the Federal hazmat law.

We agreed that we should ask states and Indian tribes to provide more detailed information about hazardous materials fees they collect in order to increase the transparency of the programs funded by HMEP grants and to enable us to more accurately evaluate the effectiveness of the HMEP program in meeting emergency response planning and training needs. Therefore, we published a Federal Register Notice on July 5, 2007 with a 60-day comment period soliciting comments on revisions to the instructions for submitting an HMEP grant application to request that applicants expand on the currently required statement explaining whether the state or Indian tribe assesses and collects fees on the transportation of hazardous materials and whether such fees are used solely for purposes related to the transportation of hazardous materials. In the 60-day notice, we indicated that, beginning with the application for FY 2008 funds, applicants will be asked to respond to an additional set of questions pertaining to state fees, specific information regarding planning and training grants, and an overall program evaluation in their performance reports.

The comment period for the 60-day notice closed on September 4, 2007. PHMSA received comments from the following companies, organizations, and individuals: The American Trucking Association (ATA); Colorado Emergency Planning Commission; Kevin Crawford; Robert E. Dopp; Delaware Emergency Management Agency; the Institute of Makers of Explosives (IME); Lyle Milby; Timothy Gablehouse; Steven Goza; Donald K. Hall; the National Tank Truck Carriers (NTTC); the Nuclear Energy Institute (NEI); Oklahoma Hazardous Materials Emergency Response Commission; James J. Plum; Daniel Roe; and the State of Wisconsin/Department of Military Affairs Wisconsin Emergency Management.

Commenters generally agree that additional information from grantees will assist in PHMSA's evaluation of the emergency response funding needs of states and Indian tribes, and will promote a more effective use of HMEP grant funds. However, many commenters express concern that funding may be reduced or eliminated as a result of responses by the applicants to the additional questions; the additional questions were an excessive burden on applicants without a measurable benefit or a specific use of the information; and the rationale and motivation of the petitioner were questionable.

In response to these comments, we published a Federal Register Notice on November 21, 2007 [72 FR 65638] with a 30-day comment period to address the concerns of the commenters. We also revised the more burdensome of the proposed questions and provided an abbreviated version of the questions in a less time-consuming and more user-friendly format. In addition, we also recalculated the information collection burden based on the revisions to the proposed questions. The revised questions outlined in the November 21, 2007 notice were as follows:

1. Does your state or tribe assess a fee or fees in connection with the transportation of hazardous materials? Yes or No

2. If the answer to question 1 is “yes,”

a. What state agency administers the fee?

b. What is the amount of the fee and the basis on which the fee is assessed? Examples of the bases on which fees may be assessed include: (1) An annual fee for each company which transports hazardous materials within your state or tribal territory; (2) a fee for each truck or vehicle used to transport hazardous materials within your state or tribal territory; (3) a fee for certain commodities or quantities of hazardous materials transported in your state or tribal territory; or (4) a fee for each hazardous materials shipment transiting your state or tribal territory.

c. For what purpose(s) is the revenue from the fee used? For example, is the revenue used to support hazardous materials transportation enforcement programs? Is the fee used to support planning, developing, and maintaining an emergency response capability?

d. What is the total annual amount of the revenue collected for the last fiscal year or 12-month accounting period?

Planning Grants

1. Did you complete or update assessments of commodity flow patterns in your jurisdiction? Yes or No. If so, how many? Please describe in one or two sentences the results of each assessment

2. Did you complete or update assessments of the emergency response capabilities in your jurisdiction? Yes or No. If yes, what factors did you consider to complete such assessments? How many assessments were completed? Please describe in one or two sentences the results of those assessments.

3. Did you or local emergency planning committees develop or improve emergency plans in your state? If so, how many plans were either developed or updated? Briefly describe the outcome of this effort.

4. Did you or local emergency planning committees in your state conduct emergency response drills or exercises in support of their emergency plans? Yes or No. How many exercises or drills did you conduct? Briefly describe the drill or exercise (tabletop, computer simulation, real-world simulation, or other drill or exercise), the number and types of participants, including shipper or carrier participants, and lessons learned.

5. How many Local Emergency Planning Committees (LEPCs) are located in your jurisdiction? How many LEPCs were assisted using Hazardous Materials Emergency Preparedness (HMEP) funds?

Training Grants

1. Did you complete an assessment of the training needs of the emergency response personnel in your jurisdiction? Yes or No. What factors did you consider to complete the assessment? What was the result of that assessment?

2. Provide details concerning the number of individuals trained in whole or in part using HMEP training grant funds on the following chart:

| Funded in part** | Funded fully
a. Fire | XXXXXX | XXXXXX
b. Police | XXXXXX | XXXXXX
c. Emergency Medical Services (EMS) | XXXXXX | XXXXXX
d. Refresher | XXXXXX | XXXXXX
e. Other* | XXXXXX | XXXXXX
Total | XXXXXX | XXXXXX

Please indicate the hazmat training level for the persons trained in the above chart by the following training levels:

Awareness | XXXXXX
Operations | XXXXXX
Technician | XXXXXX
Refresher | XXXXXX
Incident Command System (ICS) | XXXXXX
Site Specialist | XXXXXX

3. Did you develop new training using HMEP training grant funds in whole or in part, such as training in handling specific types of incidents of specific types of materials? Yes or No. If so, briefly describe the new programs. Was the program qualified using the HMEP Curriculum Guidelines process? Yes or No.

4. Do you have a system in place for measuring the effectiveness of emergency response to hazardous materials incidents in your jurisdiction? Yes or No. How many state and local response teams are located in your jurisdiction? What is the estimated coverage of these teams (e.g., the percent of state jurisdictions covered)?

Overall Program Evaluation

1. Given the amount of assistance available, using a scale of 1-5 (with 5 being excellent and 1 being poor), how well has the HMEP grant program met your need for preparing hazmat emergency responders?

2. Given projected increases, using a scale of 1-5 (with 5 being excellent and 1 being poor), how well do you think the HMEP grant program will meet your future needs?

3. What areas of the HMEP grant program would you recommend for enhancement?

The comment period for the 30-Day Notice closed on December 21, 2007. PHMSA received comments from the following companies, organizations, and individuals: The American Samoa Government; Cathy Canty; Don Cary; Cleveland County Local Emergency Planning Committee; Jack Cobb; Colorado Emergency Planning Commission; Eddy D. Cooke; Montressa Jo Elder; Stephen T. Grayson; Glenn K. Grove; Senator James M. Imhofe (R-Oklahoma); Monty Matlock; Lyle Milby; Greg Moser; Randall J. McConnell; National Association of SARA Title III Program Officials (NASTTPO); Pueblo Local Emergency Planning Committee; Daniel Roe; Keith Shadden; Greg Stasinos; LaRiea Thompson; Amanda Vargas; Pete Weaver; and Tim Zaremba.

Many of the commenters share PHMSA's goal of more accurately evaluating the effectiveness of the grant program in meeting emergency response planning and training needs. However, most of the commenters oppose the revisions and cite many of the same reasons enumerated in response to the 60-day notice, i.e.; the additional questions are an excessive burden on applicants without a measurable benefit or a specific use of the information. Other commenters warn that excessive burden generated by additional questions will have far-reaching ramifications on the grantees. For instance, Tim Zaremba, coordinator for the Navajo County, Arizona LEPC states that he “strongly concurs with the comments that seek to avoid increased burdens on grassroots communities that are already doing our level best to meet existing requirements and be successful in our activities,” and that PHMSA “should realize that any increase in information seeking will ultimately filter down to where the data exists, namely at the local level.” In its comments in a letter dated February 27, 2008, NASTTPO, an organization whose membership includes many HMEP grantees, indicates that there is a shared “goal of providing a measure of the success of the program relative to the preparedness continuum.” In the letter, NASTTPO objects to the burden PHMSA's proposed questions would place on grantees and suggests alternative questions which are less burdensome. PHMSA reviewed the NASTTPO recommendation along with other comments received to the docket, and while our objective of program accountability does not change, we believe an approach that incorporates comments and addresses concerns of all interested parties is possible. Such an information collection package would reduce and clarify the information collection requirements, change when information needs to be reported, include a simplified method to report accounting information, and incorporate information already provided by grantees. We believe this will assist us in evaluating the effectiveness of the grant program while reducing the burden on grantees to collect and report the information. Therefore, we revised the list of questions from the December 21, 2007, 30-day notice into three sections, re-calculated the information collection, and provided an alternative list of questions to OMB as an amendment to the information collection submitted to OMB for review on December 4, 2007. The amended information collection was subsequently approved by OMB with an expiration date of March 28, 2011. The sections are identified below along with an explanation of the relationship to questions and comments in the docket.

• Part I—State or Tribe Assessment of Hazardous Materials Transportation Fees. PHMSA reduced the information collected on hazardous materials transportation fees to only those areas reflected in the Federal hazardous materials transportation law, 49 U.S.C. 5125(f). This revision eliminates two questions: one pertains to the agency that collects the fee; the other pertains to whether company size was considered in the assessment. We intended this information be collected at the end of the grant period as part of the close-out report to alleviate the concerns of several commenters that grant funding may be reduced or eliminated as a result of responses to this information. However, we have decided to reserve these questions for use in a pilot project we are currently developing. The pilot program will collect information on hazardous materials fees from a small number of states. The pilot approach will allow us to “test” the questions with a limited number of states and establish a process that might allow for full implementation of the questions at a later date.

• Part II—Reporting of Authorized Expenditures. To reduce the burden on grantees and to ensure more consistent reporting of expenditures, PHMSA developed a spreadsheet to be used to report total amounts and percentages of HMEP grant funds used. The spreadsheet provides a standardized format to assist grantees to report authorized expenditures as specified in 49 CFR 110.40(a) through (b)(4), and was derived from questions previously listed in the 30-day notice. The authorized activities should total 100% of the grant funds used, and should provide PHMSA with an appropriate level of accountability.

• Part III—Report of HMEP Grantee Accomplishments. Based on comments and alternative questions submitted to the docket by NASTTPO, PHMSA developed a list of questions to be used by grantees to report the accomplishments and successes the HMEP grant program has achieved through the year. These questions address both the planning and training categories of the grant program. PHMSA believes these questions will provide the information we are seeking, while posing less of a burden on grantees. The questions are presented in a narrative format for easier and more precise understanding. In addition, to provide clarification and to further ease the burden on grantees, we also provide examples of the types of information requested.

The questions in the information collection were approved by OMB with an expiration date of March 28, 2011, and are as follows:

Part I—State or Tribe Assessment of Hazardous Material Transportation Fees

Please answer the questions as part of the grant close-out report.

1. Does your state or tribe assess a fee or fees in connection with the transportation of hazardous materials?

2. If the answer to question 1 is “yes,”

a. What is the amount of the fee and the basis on which the fee is assessed? Examples of the basis on which fees may be assessed include: (1) An annual fee for each company which transports hazardous materials within your state or tribal territory; (2) a fee for each truck or vehicle used to transport hazardous materials within your state or tribal territory; (3) a fee for certain commodities or quantities of hazardous materials transported in your state or tribal territory; or (4) a fee for each hazardous materials shipment transiting your state or tribal territory.

b. For what purpose(s) is the revenue from the fee used? For example, is the revenue used to support hazardous materials transportation enforcement programs? Is the fee used to support planning, developing, and maintaining an emergency response capability?

c. What is the total annual amount of the revenue collected for the last fiscal year or 12-month accounting period?

Part II—Reporting of Authorized Expenditures

Please complete the table on the funds spent on planning and training grants. The totals should account for 100 percent of the funds granted to a State, Territory, or Tribal government.

Accounting of Hazardous Materials Emergency Preparedness (HMEP) Grant Funds Expended in the Reported Grant Year
Section of 49 CFR | Authorized activity | Expenditures (dollars) | Percent of Total Grant
§ 110.40(a) | Planning
§ 110.40(a)(1) | Provide total dollar amount expended to develop, improve, and implement emergency plans, as well as exercises which test the plan and enhancements to the plan to include hazard analysis & response procedures to hazmat transportation
§ 110.40(a)(2) | Provide total dollar amount expended to assess flow patterns of hazardous materials within a state and between states
§ 110.40(a)(3) | Provide total dollar amount expended to assess the need for regional hazardous materials emergency response teams
§ 110.40(a)(4) | Provide total dollar amount expended to assess local response capabilities
§ 110.40(a)(5) | Provide total dollar amount expended to conduct emergency response drills and exercises
§ 110.40(a)(6) | Provide total dollar expended for the use of technical staff to support the planning effort
§ 110.40(a)(7) | Provide total dollar amount expended for additional activities the Associate Administrator deems appropriate to implement the scope of work for the proposed project and approved in the grant
| Provide the total dollar amount expended by grantees to administer the HMEP planning grant to include improvement to emergency response planning; update or complete assessments; conduct exercises; and other authorized planning activities by the grantee to include other authorized expenditures allowed under the law |  |
SubTotal Planning Expenditures
§ 110.40(b) | Training
§ 110.40(b)(1) | Provide total dollar amount expended to assess the number of public sector employees who need proposed training in accordance with the local emergency response plan
§ 110.40(b)(2) | Provide total dollar amount expended on delivery of preparedness and response training to include tuition, travel expenses, room & board
§ 110.40(b)(3) | Provide total dollar amount expended for emergency response drills and exercises, course of study, tests and evaluations of emergency response plans
§ 110.40(b)(4) | Provide total dollar amount expended for expenses associated with giving training and monitoring training to include, but not limited to examinations, critiques and instructor evaluations
§ 110.40(b)(5) | Provide total dollar amount expended for staff to manage the training effort designed to result in increased benefits, proficiency, and rapid deployment of local and regional responders
§ 110.40(b)(6) | Provide total dollar amount expended for additional activities the Associate Administrator deems appropriate to implement the scope of work for the proposed project and approved in the grant
SubTotal Training Expenditures
| Total Planning and Training Expenditures |  | 100

Part III—Report of Hazardous Materials Emergency Preparedness (HMEP) Grant Accomplishments

The questions below are to be used by grantees to report the accomplishments and successes the HMEP grant program has achieved through the year. These questions address both the planning and training categories of the grant program. Please answer each question to the best of your ability.

Questions Pertaining to Planning

1. Provide the total number of Local Emergency Planning Committees (LEPC's) and break out the total number of active and inactive LEPC's. Provide the number of LEPCs that received funding and the amount received by each.

2. Provide the number of LEPCs that have identified or further evaluated risks in their communities. Provide a brief description of the methods used by the LEPCs to identify these risks, such as: Community meetings; review of Tier 2 reports; commodity flow study; written or windshield surveys; hazard analysis; and vulnerability assessment as part of the emergency operations plan (EOP) process. Provide the number of commodity flow studies and hazard risk analyses accomplished.

3. Provide the methods used to update the emergency plan such as: LEPC meetings; types of infrastructure update information; point of contact lists; location of vulnerable populations; updates of maps; and response capabilities. Provide the number of LEPCs that have updated or written their emergency plan in the past year to be consistent with the changing conditions of the community and the identified risks.

4. Provide the number of LEPCs that exercised their emergency operations plan in the past year. Explain the type and total number of exercises conducted, for example: Table top, real world simulation, or multiple jurisdictional drills; the agencies involved; and the number of people who participated. Provide information on whether the exercise involved a fixed facility, a mode of transportation, or a combination of both. If a mode of transportation was involved, indicate whether it was rail, water, road, or air; and whether a hazardous material(s) was used as part of the exercise scenario. If a hazardous material(s) was used, indicate the type(s) of material exercised. How many total exercises were accomplished?

5. Were lessons learned from the exercise incorporated into response planning and the community emergency plan?

6. Provide the number of LEPC members who attend meetings, conferences, or other opportunities for preparedness and response education.

7. Provide the number of LEPCs with the different types of preparedness projects and outreach initiatives they conducted to improve community awareness and safety.

8. For those LEPCs that retained HMEP funding, describe the type of projects that were funded and the cost associated with each along with a description of the process used to award the project (risk analysis, needs assessment, etc.).

9. Provide the total number of hazardous materials response teams located in each of the states/tribe/territory to include industry teams.

Questions Pertaining to Training

10. Did state grantees provide training directly? Did they go through an outside contracted organization to provide training, or a combination of both?

11. If state grantees provided training, how many people (fire, police, emergency medical services (EMS), other*) received hazmat training in the past year in accordance with Occupational Safety and Health Administration (OSHA) 1910.120; and to what level of training did they receive: Awareness, Operation, Specialist, Technician and refresher training of these levels. Was the training fully funded or funded in part** by HMEP grant funds?

12. Did people receive Incident Command System (ICS) or other types of response related training? Examples of other type of training events would be Transportation Community Awareness and Emergency Response (TRANSCAER), regional or national hazmat training conferences etc.

13. Were there classes offered other than those in accordance with National Fire Protection Association (NFPA) or OSHA standards? If so, how was the offering of the course determined, the number of people trained, and the type of training conducted?

14. For those states that provided funding to LEPCs for training, provide the number of LEPCs to receive funding for training with the amount received for each. Provide the number of people (fire, police, EMS, other) in each level who received hazmat training in the past year in accordance with OSHA 1910.120. Break down the number of people trained in each hazmat level: Awareness, Operation, Specialist, Technician, and annual refresher training by level in accordance with OSHA 1910.120. Provide information on who provided the training, the number trained for each, and the type of training delivered. Was the training fully funded or funded in part** by HMEP grant funds?

15. For those states that provided funding to LEPCs, were classes offered other than those in accordance with NFPA or OSHA standards? If so, how was the offering of the course determined, the number of people trained, and the type of training conducted?

16. Was the training provided based on a change in the emergency plan or lessons learned through exercises? If so, explain.

*“Other” may include Public Works, Emergency Operations Center (EOC), emergency support functions, liaison officer, safety officer personnel, etc.

**If HMEP funds are used in any way, it counts as in part (e.g., books, prerequisite training, training equipment, etc.).

II. Implementation of Additional Questions

PHMSA acknowledges that the revision of the list of questions from the December 21, 2007, 30-day notice into three sections as outlined above may continue to represent a source of concern to grantees already faced with limited resources. We base this belief on comments received by PHMSA in response to both the 60-day and 30-day notice. Therefore, in a further effort to minimize the burden on grantees and to also meet our goal to evaluate the effectiveness of the program, we are including only the questions from Part II, “Reporting of Authorized Expenditures,” and Part III, “Reporting of Hazardous Materials Emergency Preparedness (HMEP) Grant Accomplishments,” in the 2008 HMEP application kit. These questions are to be answered during the close-out procedures conducted and submitted at the end of the application cycle. We are reserving the questions from Part I “State or Tribe Assessment of Hazardous Materials Transportation Fees” for use in a pilot project that we are currently developing. The pilot program will collect information on hazardous materials fees from a small number of states. The pilot approach will allow us to “test” the questions with a limited number of states and establish a process that might allow for full implementation of the questions at a later date.

III. Information Collection Burden for the HMEP Grant Program

The total revised information collection burden for the HMEP grant program follows:

Title: Hazardous Materials Public Sector Training and Planning Grants.

OMB Control Number: 2137-0586.

Type of Request: Revision of a currently approved information collection. Abstract: Part 110 of 49 CFR sets forth the procedures for reimbursable grants for public sector planning and training in support of the emergency planning and training efforts of states, Indian tribes and local communities to manage hazardous materials emergencies, particularly those involving transportation. Sections in this part address information collection and recordkeeping with regard to applying for grants, monitoring expenditures, and reporting and requesting modifications.

Affected Public: State and local governments, Indian tribes.

Recordkeeping:

Estimated Number of Respondents: 68.

Estimated Number of Responses: 68.

Estimated Annual Burden Hours: 5,290.

Frequency of Collection: On occasion.

Issued in Washington, DC, on July 3, 2008.
Edward T. Mazzullo,
Director, Office of Hazardous Materials Standards.

[FR Doc. E8-15653 Filed 7-9-08; 8:45 am]

BILLING CODE 4910-60-P